DEPARTMENT OF AGRICULTURE

Agricultural Marketing Service

7 CFR Part 1214

[Doc. No. AMS-FV-07-0052; FV-06-707-C]

Kiwifruit Research, Promotion, and Consumer Information Order; Correction

AGENCY: Agricultural Marketing Service, USDA.

ACTION: Correcting amendment.

SUMMARY: The Agricultural Marketing Service (AMS) is removing from the Code of Federal Regulations (CFR) its procedural regulations regarding the Kiwifruit Research, Promotion, and Consumer Information Order (Order), a program never implemented.

EFFECTIVE DATE: July 14, 2007.

FOR FURTHER INFORMATION CONTACT: Marlene M. Betts, Research and Promotion Branch, Fruit and Vegetable Programs, Agricultural Marketing Service, USDA, Stop 0244, 1400 Independence Avenue, SW., Room 0634-S, Washington, DC 20250-0244, telephone (202) 720-9915, fax (202) 205-2800, or e-mail Marlene.Betts@usda.gov.

SUPPLEMENTARY INFORMATION: The Agricultural Marketing Service (AMS) is removing from the Code of Federal Regulations (CFR), 7 CFR part 1214, Kiwifruit Research, Promotion, and Consumer Information Order (Order). The Order was authorized by the National Kiwifruit Research, Promotion, and Consumer Information Act (7 U.S.C. 7461-7473). The proposed Order was published in the Federal Register on October 17, 1997, [62 FR 54314] and then again on November 10, 1998, [63 FR 62964] but never finalized. Nevertheless, final referendum procedures were published in the Federal Register on October 17, 1997, [62 FR 54310] and added to the CFR in Subpart C, along with reserved parts, Subpart A and Subpart B at 7 CFR part 1214. This action is needed to remove 7 CFR part 1214 from the CFR since the program was never implemented. This document provides for the removal of 7 CFR 1214 in its entirety.

List of Subjects in 7 CFR Part 1214

Administrative practice and procedure, Advertising, Consumer Information, Marketing agreements, Kiwifruit, Promotion, Reporting and recordkeeping requirements.

PART 1214—[REMOVED]

Accordingly, under the authority of 7 U.S.C. 7461-7473, 7 CFR part 1214 is removed.

Dated: July 9, 2007.
Lloyd C. Day,
Administrator, Agricultural Marketing Service.

[FR Doc. E7-13546 Filed 7-12-07; 8:45 am]

BILLING CODE 3410-02-P